DEPARTMENT OF AGRICULTURE

Submission for OMB Review; Comment Request

December 10, 2012.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within January 14, 2013. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Office of the Chief Information Officer

Title: Information Collection Request; Representations Regarding Felony Conviction and Tax Delinquent Status for Corporate Applicants and Awardees.

OMB Control Number: 0505-0025.

Summary of Collection: Abstract: The Department of Agriculture (USDA) agencies and staff offices (except Forest Service) must comply with the restrictions set forth in sections 738 and 739 of the Agriculture, Rural Development, Food and Drug Administration, and Related Agencies Appropriations Act (Pub. L. 112-55, as amended and/or subsequently enacted), which prevents agencies from doing business with corporations that (1) have been convicted, or had an officer or agent of such corporation acting on behalf of the corporation convicted, of a felony criminal violation under any Federal or State law within the preceding 24 months, and/or (2) have any unpaid Federal tax liability that has been assessed, for which all judicial and administrative remedies have been exhausted or have lapsed, and that is not being paid in a timely manner pursuant to an agreement with the authority responsible for collecting the tax liability; unless the agency has considered suspension or debarment of the corporation and made a determination that suspension or debarment are not necessary to protect the interests of the Government.

The Forest Service must comply with similar restrictions in sections 433 and 434 of the Consolidated Appropriations Act, 2012 (Pub. L. 112-74, as amended and/or subsequently enacted). The Forest Service restrictions on doing business are almost identical to the restrictions for other USDA offices and agencies; the one difference is that the Forest Service restrictions are concerned only with felony convictions under Federal law, rather than both Federal and State law.

Need and Use of the Information: To comply with the appropriations restrictions, the proposed information collection will require corporate applicants and awardees for USDA and Forest Service programs to represent accurately whether they do or do not have any qualifying convictions or tax delinquencies which would prevent USDA or the Forest Service from entering into a proposed business transaction with the corporate applicant. For non-procurement programs and transactions, these representations will be submitted on the proposed information collection forms AD-3030, AD 3031, AD-3030-FS and AD-3031-FS. The categories of non-procurement transactions covered by the information collection are: Non-procurement contracts, grants, loans, loan guarantees, cooperative agreements, and some memoranda of agreement. For procurement transactions, compliance with the appropriations restrictions has been effected through the issuance of Agricultural Acquisition Regulation Advisory Number 104, issued March 29, 2012 and available here: http://www.dm.usda.gov/procurement/policy/advisories.htm. Accordingly, the information collection is not intended for use with USDA or Forest Service procurement transactions. This information collection, deals only with USDA and Forest Service non-procurement transactions. For more specific information about whether a particular non-procurement program or transaction is included in this list please contact the USDA agency or staff office or Forest Service office responsible for the program or transaction in question.

The AD-3030 and AD-3030-FS forms will effectuate compliance with the appropriations restrictions by requiring all corporate applicants to represent at the time of application for a non-procurement program whether they have any felony convictions or tax delinquencies that would prevent USDA or the Forest Service from doing business with them. Corporations include, but are not limited to, any entity that has filed articles of incorporation in one of the 50 States, the District of Columbia, or the various territories of the United States. Corporations include both for profit and non-profit entities. The AD-3031 and AD-3031-FS require an affirmative representation that corporate awardees for non-procurement transactions do not have any felony convictions or tax delinquencies. The AD 3030/3030-FS are required at the time of application and the AD 3031/3031-FS are required at the time of award. If the application and award process are a single step, the agency or staff office may require both forms to be filed at the same time. Collection of this information is necessary to ensure USDA agencies and staff offices and Forest Service comply with the appropriations restrictions prohibiting the Government from doing business with corporations with felony convictions and/or tax delinquencies.

Estimate of Burden: Public reporting burden for this information collection is estimated to average 15 minutes per response.

Frequency of Collection: Other: Corporations—AD-3030/3030-FS—each time they apply to participate in a multitude of USDA non-procurement programs; Awardees—AD-3031/3031-FS—each time they receive an award in USDA non-procurement programs.

Respondents: Corporate applicants and awardees for USDA non-procurement programs, including grants, cooperative agreements, loans, loan guarantees, some memoranda of understanding, and non-procurement contracts.

Estimated Number of Annual Respondents: 741,644.

Estimated Number of Responses per Respondent: 1.75.

Estimated Total Annual Responses: 2,255,922.

Estimated Total Annual Burden Hours on Respondents: 563,980.

Charlene Parker,
Departmental Information Collection Clearance Officer.

[FR Doc. 2012-30110 Filed 12-12-12; 8:45 am]

BILLING CODE 3410-KR-P